DEPARTMENT OF HEALTH AND HUMAN SERVICES

National Institutes of Health

National Cancer Institute; Notice of Meeting

Pursuant to section 10(a) of the Federal Advisory Committee Act, as amended (5 U.S.C. App.), notice is hereby given of a meeting of the NCI-Frederick Advisory Committee.

The meeting will be open to the public, with attendance limited to space available. Individuals who plan to attend and need special assistance, such as sign language interpretation or other reasonable accommodations, should notify the Contact Person listed below in advance of the meeting.

Name of Committee: NCI-Frederick Advisory Committee.

Date: September 24, 2013.

Time: 9:00 a.m. to 4:00 p.m.

Agenda: Discussion of proposed Frederick National Laboratory for Cancer Research Strategic Plan; Proposed Organizational Change: Division of Extramural Activities.

Place: Frederick National Laboratory for Cancer Research, Advanced Technology Research Facility (ATRF), Room E1600, 8560 Progress Drive, Frederick, MD 21702.

Contact Person: Thomas M. Vollberg, Sr., Ph.D., Executive Secretary, National Cancer Institute, National Institutes of Health, 9609 Medical Center Drive, Room 7W-102, Bethesda, MD 20892, (240) 276-6341.

Any interested person may file written comments with the committee by forwarding the statement to the Contact Person listed on this notice. The statement should include the name, address, telephone number and when applicable, the business or professional affiliation of the interested person.

The ATRF is located at 8560 Progress Drive, Frederick, MD 21701 and their Web site is: http://ncifrederick.cancer.gov/About/Atrf/Default.aspx.

Directions/Parking

For a map and directions, please visit http://ncifrederick.cancer.gov/About/AtrfDirections.aspx. [Note: Due to the newness of the roads, many GPS systems do not recognize this address and may only guide you to Progress Drive.] Enter the park via Progress Drive off of Monocacy Boulevard. Continue on Progress Drive through the traffic circle to the visitor's parking lot (three flag poles in this lot). Space in the parking lot is somewhat limited, and street parking on Progress Drive may also be used by visitors. Please check in with Protective Services at the front desk or meeting registration desk if applicable, upon entry into the building. You will need to provide valid identification.

When available, an agenda and any additional information for the meeting will be posted at: http://deainfo.nci.nih.gov/advisory/fac/fac.htm.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: August 8, 2013.
Melanie J. Gray,
Program Analyst, Office of Federal Advisory Committee Policy.

[FR Doc. 2013-19904 Filed 8-15-13; 8:45 am]

BILLING CODE 4140-01-P